DEPARTMENT OF DEFENSE

Department of the Army; Corps of Engineers

Intent To Prepare a Draft Environmental Impact Statement for El Rio Medio, Santa Cruz River, a Feasibility Study of a Portion of the Santa Cruz River in the City of Tucson, Pima County, AZ

AGENCY: Department of the Army, U.S. Army Corps of Engineers, DOD.

ACTION: Notice of intent.

SUMMARY: Analyses of foreseeable environmental impacts from potential actions along the Santa Cruz River in the City of Tucson, Pima County, Arizona, will commence. No alternative plans have been advanced as yet, so contents of the Draft Environmental Impact Statement (DEIS) remain to be determined during the public scoping process. The portion of the river to be studied extends from about Congress Road (upstream), to about Prince Road (downstream), a distance of about 4.5 river miles. Pima County has identified within this length of the river needs associated with loss of riparian habitat and the presence of cultural resources. Those needs will guide the formulation of plans for this region, the El Rio Medio (Middle of the River) segment of the Santa Cruz River.

The U.S. Army Corps of Engineers and Pima County, Arizona, will cooperate in conducting this feasibility study.

DATES: Submit comments by September 22, 2003.

ADDRESSES: District Engineers, U.S. Army Corps of Engineers, Los Angeles District, ATTN: CESPL-PD-RP, P.O. Box 532711, Los Angeles, CA 90053-2325.

FOR FURTHER INFORMATION CONTACT: Mr. Michael Fink, Environmental Manager, telephone (602) 640-2001, ext. 232, or Mr. John E. Drake, Study Manager, telephone (602) 640-2021, ext. 271. The cooperating entity, Pima County, requests inquiries to Mr. Lauren E. Robsin, telephone (520) 740-6371, for any additional information.

SUPPLEMENTARY INFORMATION:

1. Authorization

Section 6 of the Flood Control Act of 1938 authorized feasibility studies for El Rio Medio. The 75th Congress of the United States passed what became Public Law 761. This legislation states, in part: “* * * the Secretary of War [Secretary of the Army since 1947] is hereby authorized and directed to cause preliminary examinations and surveys * * *. At the following locations: Gila River and tributaries, Arizona, * * *” the Santa Cruz River once flowed into the Gila when a wetter climate prevailed in the southwest, and its watershed still joins that of the Gila near Laveen, Arizona.

2. Background

The Santa Cruz River arises in southeastern Arizona, passes southwesterly into Sonora, Mexico, then turns northward again and re-enters the United States at Nogales, Arizona. Since before the late 16th century when the Spanish explored the southwest, the Santa Cruz River never ran continuously all the way to the Gila. Where underlying bedrock along its course forced water to the surface, the Santa Cruz was perennial. Historically, reliable surface flows along the Santa Cruz could be found intermittently between Nogales and Martinez Hill, to the east of Mission San Xavier in the southerly parts of what is now metropolitan Tucson. Subsurface flow farther north sustained a riparian community. Downstream of the confluence with the so called West Branch of the Santa Cruz the water table again rose above the surface around Sentinel Hill. Year-round water supplied the needs of Mission San Agustín, built in the west side of the river at the foot of the hill where Tohono O'Odham people kept a village (called stjukshon by them), and the presidio on the east side of the Santa Cruz. These two historic locations became the origin modern day Tucson.

The feasibility studies to be evaluated by this DEIS will evaluate: (1) Alternative means of structural stabilization to the river's banks between Prince Road (upstream) and W. Congress Street (downstream); (2) opportunities to reclaim biotic properties of the Santa Cruz near downtown Tucson, and elements of the riparian community on its banks; (3) modifications of upland surfaces adjacent to the incised banks to promote growth of appropriate native upland vegetation; (4) designs for recreational facilities which would feature prehistoric elements, historic properties, and biological traits of this portion of the Santa Cruz; (5) integrate these recreational considerations into the Juan Bautista de Anza National Trail; and (6) the efficacy of recharging subsurface aquifers by means of water released into the river bottom downstream of W. Congress Street.

Prehistoric historic cultural resources are abundant along this stretch of the Santa Cruz. Neither federally protected species nor critical habitat for listed species have been identified here.

3. Proposed Action

No plan of action has yet been identified.

4. Alternatives

a.—No Action: No improvement or reinforcement of existing banks or uplands.

b—Proposed Alternative Plans: None have been formulated to date.

5. Scoping Process

Participation of all interested Federal, State, and County resource agencies, as well as Native American peoples, groups with environmental interests, and all interested individuals is encouraged. Public involvement will be most beneficial and worthwhile in identifying pertinent environmental issues, offering useful information such as published or unpublished data, direct personal experience or knowledge which inform decision making, assistance in defining the scope of plans which ought to be considered, and recommending suitable mitigation measures warranted by such plans. Those wishing to contribute information, ideas, alternatives for actions, and so forth can furnish these contributions in writing to the points of contacts indicated above, or by attending public scoping opportunities. Notice of public scoping meeting will be published in the local newspapers.

When plans have been devised and alternatives formulated to embody those plans, potential impacts will be evaluated in the DEIS. These assessments will emphasize at least fourteen categories of resources: Land use, impromptu historic landfills created by dumping trash over the banks, hazardous wastes, physical environment, hydrology, groundwater, biological, archaeological, geological, air quality, noise, transportation, socioeconomic, and safety.

Dated: July 18, 2003.
Richard G. Thompson,
Colonel, US Army, District Engineer.

[FR Doc. 03-20264 Filed 8-7-03; 8:45 am]

BILLING CODE 3710-KF-M